DEPARTMENT OF AGRICULTURE

Submission for OMB Review; Comment Request

January 21, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Waivers Under Section 6(o) of the Food and Nutrition Act.

OMB Control Number: 0584-0479.

Summary of Collection: This is a renewal of an existing information collection. Section 824 of the Personal Responsibility and Work Opportunity Reconciliation Act of 1996, Public Law 104-193 (PRWORA) establishes a time limit for the receipt of Supplemental Nutrition Assistance Program (SNAP) benefits for certain able-bodied adults who are not working. The provision authorizes the Secretary of Agriculture, upon a State agency's request, to waive the provision for any group of individuals if the Secretary determines “that the areas in which the individuals reside has an unemployment rate of over 10 percent or does not have a sufficient number of jobs to provide employment for the individuals.”

Need and Use of the Information: The Food and Nutrition Service uses the information provided by State SNAP agencies to evaluate whether the statutory requirements for a waiver of the SNAP time limit have been met and to determine specifically whether the designated areas' unemployment rate is over ten percent or if there is a lack of sufficient jobs available. If the information is not collected, the State SNAP agencies could not obtain waivers of time limits contained in Section 6(o) of the Act.

Description of Respondents: State, Local, or Tribal Government; Individuals or household; Federal Government.

Number of Respondents: 53.

Frequency of Responses: Reporting: On occasion; Annually.

Total Burden Hours: 1,195.

Food and Nutrition Service

Title: Supplemental Nutrition Assistance Program (SNAP) Pre-Screening Tool.

OMB Control Number: 0584-0519.

Summary of Collection: This is a renewal of an existing information collection. Consistent with Section 5 of the Food and Nutrition Act of 2008, as amended, the Food and Nutrition Service (FNS) has developed the Supplemental Nutrition Assistance Program (SNAP) Pre-Screening Tool to enable applicants to assess their eligibility and the order of magnitude of the potential benefit for which they may qualify. This Pre-Screening Tool also enables citizen advocacy groups to help constituents assess their benefit eligibility.

Need and Use of the Information: The SNAP Pre-Screening Tool is accessible to the public as an online web-based system. The user is prompted to enter household size, income, expenses and resource information, and the tool calculates and provides the user with an estimated range of benefits that the household may be eligible to receive.

Description of Respondents: Individuals or households.

Number of Respondents: 402,534.

Frequency of Responses: Reporting: On occasion.

Total Burden Hours: 67,223.

Food and Nutrition Service

Title: FNS User Access Request Form.

OMB Control Number: 0584-0532.

Summary of Collection: This is a renewal of an existing information collection. The Office of Management and Budget Circular No. A-130, Appendix III, Security of Federal Automated Information Resources, dated February 8, 1996, established a minimum set of controls to be included in Federal automated information security programs. Establishing personal controls to screen users to allow access to an authorized system is directed in this appendix. The Food and Nutrition Service (FNS) User Access Request Form, FNS-674, is designed for this purpose and will be used in all situations where access to an FNS computer system is required, where current access is required to be modified, or where access is no longer required and must be deleted. Users who access FNS systems are: State agencies, other Federal agencies, FNS Regional offices, FNS Field offices, FNS Compliance Offices, staff contractors, and FNS headquarters staff.

Need and Use of the Information: The State Coordinator is responsible for ensuring that State users and entities comply with the FNS Information Systems Security Guidelines and the Procedures Handbook 702 developed for State systems for their use in maintaining proper controls over FNS security features used by State clients. The information to be collected is: Name, e-Authentication ID, telephone number, home zip code, email address, contract expiration date, temporary employee expiration date, office address, State/locality codes, system name, form type, type of access, action requested, comments and special instructions. If access were not granted, users would be denied access to systems needed to deliver FNS programs.

Description of Respondents: State, Local, or Tribal Government; Federal Government; Businesses or other for-profit.

Number of Respondents: 2,700.

Frequency of Responses: Reporting: On occasion.

Total Burden Hours: 870.

Ruth Brown,
Departmental Information Collection Clearance Officer.

[FR Doc. 2015-01532 Filed 1-27-15; 8:45 am]

BILLING CODE 3410-30-P